DEPARTMENT OF THE INTERIOR

Bureau of Land Management

[CO930-05-9260NQ-COQB]

Notice of Availability of the Draft Alamosa River Watershed Restoration Master Plan

AGENCIES: Bureau of Land Management, Department of the Interior, lead; Fish and Wildlife Service; cooperating agency; United States Forest Service, Department of Agriculture, cooperating agency.

ACTION: Notice of Release of Draft Alamosa River Watershed Restoration Master Plan.

SUMMARY: This notice advises the public and other agencies of availability of the Draft Alamosa River Watershed Restoration Master Plan (ARWRMP) for comment. The draft plan describes the Alamosa River environment and the impacts to watershed resources and land uses, and briefly describes proposed restoration projects. It comprehensively addresses all watershed restoration needs, including those resulting from injuries pursuant to the federal Natural Resource Damage Assessment and Restoration (NRDAR) regulations in CFR 43 part 11, as well as restoration needs arising from other impacts. The draft plan also outlines several sets of projects based on competing needs and limited funding, and proposes a preferred restoration alternative, consisting of a project set that best addresses the various resource impacts. The preferred alternative provides for natural resource restoration within the Alamosa River watershed. The draft plan envisions funds from the NRDAR settlement, along with matching funds, grants, and other funding sources, to support the preferred alternative. The restoration actions ultimately undertaken will result from proposals for specific actions that respond to the needs and selected projects identified in the preferred restoration alternative.

DATES: A public meeting will be held to present the draft plan and to respond to comments and questions. This meeting will be held on March 21, 2005 at 6:30 p.m. at Centauri School just south of La Jara, Colorado on highway 285. Persons may comment in writing on the draft plan at the addresses given below for Rob Robinson. The 30 day comment period will end April 14, 2005.

ADDRESSES: Persons may obtain copies of the draft document and comment on the draft by writing, telephoning, faxing, or e-mailing: Rob Robinson at the Bureau of Land Management, 2850 S. Youngfield Street, Lakewood, Colorado 80215, phone 303-239-3642, fax 303-239-3799, email: rob_robinson@blm.gov. The document is also available at the following Internet address: http://mountain-prairie.fws.gov/nrda/Summitville.htm/. Copies of the document will be available for on-site review in the Del Norte Public Library, 190 Grand Avenue, Del Norte, CO 81131 or U.S. Department of Agriculture, Conejos County Natural Resources Conservation Service, 15 Spruce, La Jara, CO 81140.

SUPPLEMENTARY INFORMATION: The Comprehensive Environmental Response, Compensation and Liability Act (CERCLA, more commonly known as the federal “Superfund” law) [42 U.S.C. 9601, et seq.] and the Federal Water Pollution Control Act, commonly known as the Clean Water Act (CWA) [33 U.S.C. 1251, et seq.] authorize States, federally recognized Tribes, and certain federal agencies, which have the authority to manage or control natural resources, to act as “trustees” on behalf of the public, to restore, rehabilitate, replace, and/or acquire natural resources equivalent to those harmed by hazardous substance releases. The U.S. Department of the Interior (represented by the Bureau of Land Management and the U.S. Fish and Wildlife Service), U.S. Department of Agriculture (represented by the U.S. Forest Service), the State of Colorado (represented by the Departments of Law, Natural Resources, and Public Health and the Environment) are Trustees for natural resources considered in this Natural Resource Damage Assessment and Restoration (NRDAR) project, pursuant to subpart G of the National Oil and Hazardous Substances Pollution Contingency Plan (40 CFR 300.600 and 300.610) and Executive Order 12580.

The objective of the NRDAR process in the Alamosa River watershed is to compensate the public, through restoration actions, for losses to natural resources and services that have been caused by releases of toxic metals into the watershed. Restoration activities will be funded in part by natural resource damages recovered in settlement from the party responsible for recent contamination emanating from the Summitville mine in the upper watershed. The damages received must be used to restore, rehabilitate, replace and/or acquire the equivalent of those natural resources that have been injured.

The Trustees have a Memorandum of Agreement which establishes a Trustee Council to develop and implement a restoration plan for ecological restorations in the Alamosa River watershed. The Trustees followed the NRDAR regulations found at 43 CFR part 11 for development of the draft plan. The Trustees have worked together, in a cooperative process, to determine appropriate restoration activities to address natural resource injuries caused by Summitville releases of hazardous substances, as well as other watershed impacts identified during planning. The draft plan addresses the Trustees' overall approach to restore, rehabilitate, replace or acquire the equivalent of natural resources injured by the release of toxic metals into the Alamosa River watershed environment. Comments received during the above public comment period will be incorporated into a final document as appropriate.

Authority: 42 U.S.C. 4321-4347.

Dated: February 25, 2005.
Robert H. Robinson,
Summitville Trustee Council Representative, Division of Energy, Lands and Minerals, Colorado State Office, Bureau of Land Management.

[FR Doc. 05-7709 Filed 4-15-05; 8:45 am]

BILLING CODE 4310-JB-P